DEPARTMENT OF AGRICULTURE

Agricultural Marketing Service

[Doc No. AMS-FGIS-19-0027]

Opportunity for Designation in the South Carolina Area

AGENCY: Agricultural Marketing Service, USDA.

ACTION: Notice.

SUMMARY: The interim designation of the South Carolina Department of Agriculture will end on September 30, 2019. We are asking persons or governmental agencies interested in providing official services in the areas presently served by this agency to submit an application for designation. The realignment of offices within the U.S. Department of Agriculture authorized by the Secretary's Memorandum dated November 14, 2017, eliminates the Grain Inspection, Packers and Stockyards Administration (GIPSA) as a standalone agency. The grain inspection activities formerly part of GIPSA are now organized under the Agricultural Marketing Service.

DATES: Applications must be received by July 25, 2019.

ADDRESSES: Submit applications concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Mail, Courier or Hand Delivery: Jacob Thein, Compliance Officer, USDA, AMS, FGIS, QACD, 10383 North Ambassador Drive, Kansas City, MO 64153.

• Email: FGISQACD@ams.usda.gov.

Read Applications: All applications will be available for public inspection at the office above during regular business hours (7 CFR 1.27(c)).

FOR FURTHER INFORMATION CONTACT: Jacob Thein, 816-866-2223 or FGISQACD@ams.usda.gov.

SUPPLEMENTARY INFORMATION: Section 7(f) of the United States Grain Standards Act (USGSA) authorizes the Secretary to designate a qualified applicant to provide official services in a specified area after determining that the applicant is better able than any other applicant to provide such official services (7 U.S.C. 79(f)). Under section 7(g) of the USGSA (7 U.S.C. 79(g)), designations of official agencies are effective for no longer than five years, unless terminated by the Secretary, and may be renewed according to the criteria and procedures prescribed in section 7(f) of the USGSA.

Area Open for Designation

State of South Carolina

Pursuant to Section 7(f)(2) of the USGSA, the following geographic area in the State of South Carolina is assigned to the South Carolina Department of Agriculture: In South Carolina.

The entire State, except those export port locations within the State, which are serviced by the South Carolina Department of Agriculture.

Opportunity for Designation

Interested persons or governmental agencies may apply for designation to provide official services in the geographic area specified above under the provisions of section 7(f) of the USGSA and 7 CFR 800.196. Designation in the specified geographic area in South Carolina is for the period beginning October 1, 2019, to September 30, 2024. To apply for designation or to request more information, contact Jacob Thein at the address listed above.

Authority: 7 U.S.C. 71-87k.

Dated: June 20, 2019.
Erin Morris,
Associate Administrator, Agricultural Marketing Service.

[FR Doc. 2019-13451 Filed 6-24-19; 8:45 am]

BILLING CODE 3410-02-P